DEPARTMENT OF ENERGY

Federal Energy Regulatory Commission

[Docket No. CP03-12-000]

Egan Hub Partners, L.P.; Notice of Application

November 14, 2002.

Take notice that on November 5, 2002, Egan Hub Partners, L.P. (Egan Hub), 5400 Westheimer Court, Houston, Texas 77056, filed in the above referenced docket an application, pursuant to section 7(c) of the Natural Gas Act (NGA) and the Commission's regulations thereunder, for a certificate of public convenience and necessity authorizing the expansion of its existing storage facility at the Jennings Salt Dome in Acadia Parish, Louisiana (Egan Storage Facility Expansion). This application is on file with the Commission and open to public inspection. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or for TTY, contact (202) 502-8659.

Currently, Egan Hub has three salt caverns at its storage facility. Egan Hub seeks authorization to expand its existing salt dome storage facility working gas capacity from 16.0 Bcf to 24.0 Bcf and its maximum aggregate operating capacity from 21.0 Bcf to 31.5 Bcf. No new surface facilities are proposed. In addition, Egan Hub states that the proposed increase in operating capacity will not affect Egan Hub's existing maximum deliverability capability of 1,500 MMcfd, nor will it change the existing maximum injection capability of 800 MMcfd.

Egan Hub also proposes to continue charging market-based rates. As a result, Egan Hub requests waivers of certain of the Commission's regulations that are required when an applicant seeks cost-based rate authority.

Egan Hub states that it requests approval of its application on or before January 22, 2003, in order to meet the anticipated future market needs of its customers.

Any questions regarding this application should be directed to Steven E. Tillman, General Manager—Regulatory Affairs, Egan Hub Partners, L.P., PO Box 1642, Houston, Texas 77251-1642 at (713) 627-5113 or by fax at (713) 627-5947.

There are two ways to become involved in the Commission's review of this project. First, any person wishing to obtain legal status by becoming a party to the proceedings for this project should, on or before December 5, 2002, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-29415 Filed 11-19-02; 8:45 am]

BILLING CODE 6717-01-P